DEPARTMENT OF THE INTERIOR

National Park Service

General Management Plan, Draft Environmental Impact Statement, Washita Battlefield National Historic Site, OK

AGENCY: National Park Service, Department of the Interior.

ACTION: Availability of draft environmental impact statement and general management plan for Washita battlefield national historic site.

SUMMARY: Pursuant to section 102(2)(C) of the National Environmental Policy Act of 1969, the National Park Service announces the availability of a Draft Environmental Impact Statement and General Management Plan (DEIS/GMP) Washita Battlefield National Historic Site, Oklahoma.

DATES: The DEIS/GMP will remain available for public review through May 18, 2001. If any public meetings are held concerning the DEIS/GMP, they will be announced at a later date.

Comments: If you wish to comment, you may submit your comments by any one of several methods. You may mail comments to to office of the Superintendent, Washita Battlefield National Historic Site, 426 E. Broadway, Cheyenne, OK, 73628. You may also comment via the Internet to waba_superintendent@nps.gov. Please submit Internet comments as an ASCII file avoiding the use of special characters and any form of encryption. Please also include “Attn: draft GMP comments” and your name and return address in your Internet message. If you do not receive a confirmation from the system that we have received your Internet message, contact us directly Washita Battlefield National Historic Site, 580-497-2742.

Finally, you may hand-deliver comments to Washita Battlefield National Historic Site, 426 E. Broadway, Cheyenne, OK. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the DEIS/GMP are available from the Superintendent, Washita Battlefield National Historic Site, 426 E. Broadway, Cheyenne, OK. 73628. Public reading copies of the DEIS/GMP will be available for review at the following locations:

Office of the Superintendent, Washita Battlefield National Historic Site, 426 E. Broadway, Cheyenne, OK, Telephone: 580-497-2742

Planning and Environmental Quality, Intermountain Support Office—Denver, National Park Service, P.O. Box 25287, Denver, CO 80225-0287, Telephone: (303) 969-2851 [or (303) 969-2377]

Office of Public Affairs, National Park Service, Department of the Interior, 18th and C Streets NW, Washington, D.C. 20240, Telephone: (202) 208-6843

SUPPLEMENTARY INFORMATION: The DEIS/GMP analyzes three alternatives to manage the park and balance visitor use and resource protection. Under the preferred alternative visitors would have opportunities to participate in a variety of activities. The major action of the alternative would be to locate the visitor/administrative facility offsite at the U.S. Forest service site. Alternative A would provide visitors with offsite learning opportunities, while preserving the reflective mood at the site. Under alternative B visitors would be provided with onsite learning opportunities through integration of the visitor facilities with the historic scene onsite.

The DEIS/GMP in particular evaluates the environmental consequences of the proposed action and the other alternatives on cultural resources, natural resources, visitor use, and the socioeconomic environment.

FOR FURTHER INFORMATION: Contact Superintendent, Washita Battlefield National Historic Site, at the above address and telephone number.

Dated: February 23, 2001.
Michael D. Synder,
Director, Intermountain Region, National Park Service.

[FR Doc. 01-6854 Filed 3-19-01; 8:45 am]

BILLING CODE 4310-70-P